COMMITTEE FOR PURCHASE FROM PEOPLE WHO ARE BLIND OR SEVERELY DISABLED

Procurement List Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products and services previously furnished by such agencies.

DATES: Comments must be received on or before: 12/16/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

Cover, Certificate-Document, Gold Foil Stamped

NSN: 7510-00-NIB-1853—Green.

NSN: 7510-00-NIB-9910—Burgundy.

NSN: 7510-00-NIB-9917—Red.

NPA: Dallas Lighthouse for the Blind, Inc., Dallas, TX.

Contracting Activity: General Services Administration, New York, NY.

Coverage: A-List for the Total Government Requirement as aggregated by the General Services Administration.

NSN: 8950-01-E62-2180—Pepper, Crushed Red, 12 oz. Bottle, 6/CS.

NPA: CDS Monarch, Webster, NY.

Contracting Activity: Defense Logistics Agency Troop Support, Philadelphia, PA.

Coverage: C-List for 100% of the requirement of the Department of Defense, as aggregated by the Defense Logistics Agency Troop Support, Philadelphia, PA.

Deletions

The following products and services are proposed for deletion from the Procurement List:

Products

Tongs, Food Serving

NSN: 7330-00-616-0997—12″.

NSN: 7330-00-616-0998—9″.

NSN: 7330-00-616-1000—6″.

NPA: UNKNOWN.

Contracting Activity: General Services Administration, Fort Worth, TX.

Services

Service Type/Locations:

Janitorial/Custodial Service, U.S. Federal Building and Courthouse, 205 4th Street, Coeur d'Alene, ID.

U.S. Federal Building, St. Maries, ID.

NPA: TESH, Inc., Coeur d'Alene, ID.

Contracting Activity: General Services Administration, FPDS Agency Coordinator, Washington, DC

Service Types/Location:

Custodial Service, Air National Guard Base—Reserve Buildings, BLDGS 300, 304, 315, 320, 310, 360, 365, 355, 373, 375, Portland, OR.

Food Service Attendant Service, Portland Air National Guard Base, Portland, OR.

NPA: The Port City Development Center—Portland, OR.

Contracting Activity: Dept of the Air Force, FA7014 AFDW PK, Andrews AFB, MD.

Barry S. Lineback,
Director, Business Operations.

[FR Doc. 2013-27398 Filed 11-14-13; 8:45 am]

BILLING CODE 6353-01-P